DEPARTMENT OF TRANSPORTATION

Federal Highway Administration

Notice of Final Federal Agency Actions on Proposed Highway Project in Utah

AGENCY: Utah Department of Transportation (UDOT), Federal Highway Administration (FHWA), Department of Transportation.

ACTION: Notice of Limitation on Claims for Judicial Review of Actions by UDOT on behalf of FHWA, and Federal agencies.

SUMMARY: This notice announces certain actions taken by UDOT on behalf of FHWA and other Federal agencies. The actions relate to a proposed highway project located on Interstate 80 (I-80), from approximate milepost (MP) 142.1 to MP 136, in the Counties of Summit and Salt Lake, State of Utah. Those actions grant licenses, permits and approvals for the project.

DATES: By this notice, the FHWA, on behalf of UDOT, is advising the public of final agency actions subject to 23 U.S.C. 139(l)(1). A claim seeking judicial review of the Federal agency actions on the highway project will be barred unless the claim is filed on or before March 5, 2018. If the Federal law that authorizes judicial review of a claim provides a time period of less than 150 days for filing such claim, then that shorter time period still applies.

FOR FURTHER INFORMATION CONTACT: For UDOT: Brandon Weston, Director of Environmental Services, UDOT Environmental Services, P.O. Box 148380, Salt Lake City, UT 84114; telephone: (801) 965-4603; email: brandonweston@utah.gov. UDOT's normal business hours are 8:00 a.m. to 5:00 p.m. (Mountain Standard Time), Monday through Friday, except State and Federal holidays.

SUPPLEMENTARY INFORMATION: Effective July 1, 2008 and renewed on July 1, 2011, June 30, 2014, and June 23, 2017, FHWA assigned, and UDOT assumed, all environmental responsibilities for this project pursuant to 23 U.S.C. 326 Categorical Exclusion Assignment Memorandum of Understanding. Notice is hereby given that UDOT has taken final agency actions subject to 23 U.S.C. 139(l)(1) by issuing licenses, permits, and approvals for the I-80; Parleys Summit to Jeremy Ranch Westbound Truck Lane project in the State of Utah. This project proposes to improve I-80 from approximate MP 136 to approximate MP 142.1 to address safety issues associated with semi-truck congestion, reduce the potential for wildlife/motorists incidents, and address deficient pavement conditions located in the counties of Salt Lake and Summit, Utah. The project consists of the following elements: (1) Add an additional westbound truck climbing lane from approximate MP 138.3 to 141.8; (2) constructing a wildlife bridge over I-80 at approximate MP 139 and installing exclusionary wildlife fencing and escape ramps through the project; and (3) pavement rehabilitation along all east- and westbound lanes throughout the corridor. These improvements were identified in the Categorical Exclusion for the project. The actions by UDOT and the Federal agencies, and the laws under which such actions were taken, are described in the Categorical Exclusion (CE) for the project (I-80; Parleys Summit to Jeremy Ranch Westbound Truck Lane in Salt Lake and Summit Counties, Utah, Project No. F-I80-4(151)139), approved on June 26, 2017, and in other documents in the UDOT project records. The CE and other project records are available by contacting UDOT at the address provided above.

This notice applies to the CE, the Section 4(f) Determination, the NHPA Section 106 Review, the ESA Section 7 Effects Determination, the Noise Assessment, and all other UDOT and Federal agency decisions as of the issuance date of this notice and all laws under which such actions were taken, including but not limited to the following laws (including their implementing regulations):

1. General: National Environmental Policy Act (NEPA), 42 U.S.C. 4321-4370; Federal-Aid Highway Act, 23 U.S.C. 109.

2. Air: Clean Air Act, 42 U.S.C. 7401-7671q.

3. Land: Section 4(f) of the Department of Transportation Act of 1966, 49 U.S.C. 303; 23 U.S.C. 138; Landscaping and Scenic Enhancement (Wildflowers), 23 U.S.C. 319.

4. Wildlife: Endangered Species Act, 16 U.S.C. 1531-1544 and Section 1536; Fish and Wildlife Coordination Act, 16 U.S.C. 661-667d; Migratory Bird Treaty Act, 16 U.S.C. 703-712.

5. Water: Section 404 of the Clean Water Act, 33 U.S.C. 1344; E.O. 11990, Protection of Wetlands.

6. Historic and Cultural Resources: Section 106 of the National Historic Preservation Act of 1966, 16 U.S.C. 470f; Archeological Resources Protection Act of 1977, 16 U.S.C. 470aa-470mm; Archeological and Historic Preservation Act, 16 U.S.C. 469-469c.

7. Noise: Federal-Aid Highway Act of 1970, Public Law 91-605, 84 Stat. 1713.

8. Executive Orders: E.O. 11593 Protection and Enhancement of Cultural Resources; E.O. 13287 Preserve America; E.O. 12898, Federal Actions to Address Environmental Justice and Low-Income Populations.

(Catalog of Federal Domestic Assistance Program Number 20.205, Highway Planning and Construction. The regulations implementing Executive Order 12372 regarding intergovernmental consultation on Federal programs and activities apply to this program.)

Authority: 23 U.S.C. 139(l)(1)

Issued on: September 28, 2017.
Ivan Marrero,
Division Administrator, Federal Highway Administration, Salt Lake City, Utah.

[FR Doc. 2017-21562 Filed 10-5-17; 8:45 am]

BILLING CODE 4910-RY-P